FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y, (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than April 7, 2000.

A. Federal Reserve Bank of St. Louis (Randall C. Sumner, Vice President) 411 Locust Street, St. Louis, Missouri 63166-2034:

1. First Banks, Inc., Creve Coeur, Missouri; to acquire certain assets and assume certain liabilities of First Capital Group, Inc., Albuquerque, New Mexico, and thereby engage in leasing personal and real property activities, pursuant to § 225.28(b)(3) of Regulation Y. The leasing activities will be conducted in a newly formed direct wholly owned subsidiary of Notificant, which will assume the selling institution's name of First Capital Group, Inc. and retain its head office location in Albuquerque, New Mexico.

Board of Governors of the Federal Reserve System, March 20, 2000.
Robert deV. Frierson,
Associate Secretary of the Board.

[FR Doc. 00-7270 Filed 3-23-00; 8:45 am]

BILLING CODE 6210-01-P